DEPARTMENT OF TRANSPORTATION

Federal Aviation Administration

14 CFR Part 39

[Docket No. FAA-2006-24289; Directorate Identifier 2005-NM-186-AD]

RIN 2120-AA64

Airworthiness Directives; Airbus Model A300 Airplanes; A300 B4-600, B4-600R, and F4-600R Series Airplanes, and Model A300 C4-605R Variant F Airplanes (Collectively Called A300-600 Series Airplanes); and A310 Airplanes

AGENCY: Federal Aviation Administration (FAA), Department of Transportation (DOT).

ACTION: Supplemental notice of proposed rulemaking (NPRM); reopening of comment period.

SUMMARY: The FAA is revising an earlier NPRM for an airworthiness directive (AD) that applies to all Airbus airplanes identified above. The original NPRM would have required improving the routing of certain electrical wire bundles in certain airplane zones, as applicable to the airplane model. The original NPRM resulted from fuel system reviews conducted by the manufacturer. This action revises the original NPRM by removing certain requirements, extending the compliance time for a certain replacement, and specifies that the actions in this proposed AD are considered interim action until a terminating action for the removed requirements is approved and available. We are proposing this supplemental NPRM to reduce the potential of ignition sources inside fuel tanks, which, in combination with flammable fuel vapors, could result in fuel tank explosions and consequent loss of the airplane.

DATES: We must receive comments on this supplemental NPRM by October 6, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, Transport Airplane Directorate, FAA, 1601 Lind Avenue, SW., Renton, Washington 98055-4056; telephone (425) 227-1622; fax (425) 227-1149.

SUPPLEMENTARY INFORMATION:

Comments Invited

We invite you to submit any relevant written data, views, or arguments regarding this supplemental NPRM. Send your comments to an address listed in the ADDRESSES section. Include the docket number “Docket No. FAA-2006-24289; Directorate Identifier 2005-NM-186-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to all Airbus Model A300 B2 and A300 B4 series airplanes; Model A300 B4-600, B4-600R, and F4-600R series airplanes, and Model A300 C4-605R Variant F airplanes (collectively called A300-600 series airplanes); and A310-200 and -300 series airplanes. The original NPRM was published in the Federal Register on April 4, 2006 (71 FR 16716). The original NPRM proposed to require improving the routing of certain electrical wire bundles in certain airplane zones, as applicable to the airplane model.

Since the original NPRM was issued, the European Aviation Safety Agency (EASA) has superseded French airworthiness directive F-2005-112 R1, dated September 14, 2005, which was referenced as the parallel airworthiness directive for the actions in the original NPRM. EASA airworthiness directive 2006-0074, dated April 3, 2006, removes Actions 1 and 2 and specifies that a new EASA airworthiness directive is planned in the future to mandate the embodiment of certain new service information that will render Actions 1 and 2 null and void.

Actions 1 and 2 were:

• Action 1—Install a heat-shrinkable sleeve along the complete length of the electrical supply bundle of the fuel pumps. These electrical supply bundles are located in metallic protective conduits in zones 571 and 671.

• Action 2—Install a heat-shrinkable sleeve along the complete length of the electrical supply bundle of the fuel pumps. These electrical supply bundles are located in metallic protective conduits in zones 575 and 675.

In this supplemental NPRM, we have removed the service bulletins that were referenced as the appropriate sources of service information for doing Actions 1 and 2 in the original NPRM. The service bulletins are described in the following table.

Airbus Service Bulletins Removed in This Supplemental NPRM
Airbus service bulletin | Revision level | Date
A300-28-0057 | 02 | January 8, 2001.
A300-28-6018 | 1 | September 15, 1988.
A300-28-0070 | 01 | March 18, 1999.
A300-28-6048 | Original | September 19, 1996.
A310-28-2112 | Original | September 19, 1996.

We have also removed Airbus Service Bulletins A300-28-6010, Revision 1, dated September 17, 1986; and A310-28-2008, Revision 2, dated May 14, 1990; which were referenced in the original NPRM as prior/concurrent service bulletins for Actions 1 and 2. We have also removed Airbus Service Bulletins A300-24-0073, Revision 04, dated June 30, 1998; and A300-24-6004, Revision 03, dated June 30, 1998; which were referenced in the original NPRM as prior/concurrent service bulletins for Action 3. Airbus has informed us that the actions in Airbus Service Bulletins A300-24-0073 and A300-24-6004 are recommended as complementary measures to improve the trailing edge electrical installation reliability, but are not required for accomplishing Action 3. However, Airbus Service Bulletin A300-24-6004 is still specified as a requirement for accomplishing Action 5.

Relevant Service Information

Airbus has issued the service bulletins identified in the following table. We described these service bulletins in the original NPRM.

Airbus Service Bulletins
Action | Applicable to model— | Described in Service Bulletin—
3 | A300 airplanes | A300-24-0085, Revision 06, dated October 13, 2005.
| A300-600 series airplanes | A300-24-6043, Revision 06, dated October 13, 2005.
4 | A300-600 series airplanes | A300-28-6056, dated February 18, 1998.
5 | A300-600 series airplanes | A300-24-6004, Revision 03, dated June 30, 1998.
| A310 airplanes | A310-24-2009, Revision 03, dated June 30, 1998.
6 | A300 airplanes | A300-24-0100, dated April 7, 2005.
| A300-600 series airplanes | A300-24-6084, Revision 01, dated June 28, 2005.
| A310 airplanes | A310-24-2091, dated March 4, 2005.

EASA mandated the service information and issued EASA airworthiness directive EASA airworthiness directive 2006-0074, dated April 3, 2006, to ensure the continued airworthiness of these airplanes in the European Union.

Comments

We have considered the following comments on the original NPRM.

Requests To Extend Compliance Time

FedEx, and Air Transport Association (ATA), on behalf of its member American Airlines (AAL), request that we extend the compliance time. FedEx states that the proposed compliance time of 26 months after the effective date of the AD is not acceptable and states that it requires 43 months after the effective date to comply. FedEx's comment implies that the 43-month compliance time would better align with its maintenance schedule. AAL requests a 30-month compliance time to align with its maintenance schedule. The scope of the modifications is well beyond the capabilities of AAL's lower-level maintenance infrastructure. AAL is also concerned about kit availability and lead times. AAL states that the relevant reliability and service interruption data gathered since 1996 do not support the 26-month compliance time. AAL has had inspections in place for the affected area since 1996 and has had no significant findings that would indicate re-emergence of the unsafe condition specified in the original NPRM. In addition, AAL states that it has implemented mitigation techniques that are similar but less costly than those described in the referenced serviced bulletins.

We disagree with the commenters. We have determined that the compliance time, as proposed, represents the maximum interval of time allowable for the affected airplanes to continue to safely operate before the modification is done. In addition, we have confirmed with the parts manufacturer that parts will be available to operators within the timeframe proposed in this supplemental NPRM. However, operators may request an Alternative Method of Compliance (AMOC) in accordance with the procedures specified in paragraph (l) of this supplemental NPRM.

Request for Editorial Changes

Airbus notes that the original NPRM should be corrected in three areas: In paragraph (h)(2), Modification 11276 should be replaced by Modification 10505; in paragraph (j)(2), Modification 478 should be replaced by Modification 6478; and in paragraph (k), the phrase “* * * with new metallic clamps * * *; or replace * * * ” should be replaced by “* * * with new metallic clamps * * * and/or replace.”

We agree with Airbus. We have made the noted editorial changes in the applicable paragraphs of the supplemental NPRM.

Request To Withdraw Action

ATA, on behalf of AAL, notes that some of the service bulletins in the original NPRM had been released as early as 1988 without the FAA taking AD action. The commenters state that this indicates that at the time the inherent safety risk was not considered to be significant enough to warrant regulatory action.

We infer that the commenters are requesting that we withdraw the supplemental NPRM because the action is not warranted. We disagree. As stated in the original NPRM, we issued a regulation titled “Transport Airplane Fuel Tank System Design Review, Flammability Reduction and Maintenance and Inspection Requirements” (67 FR 23086, May 7, 2001). In addition to new airworthiness standards for transport airplanes and new maintenance requirements, this rule included Special Federal Aviation Regulation No. 88 (“SFAR 88,” Amendment 21-78, and subsequent Amendments 21-82 and 21-83). Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the original NPRM, we intended to adopt airworthiness directives to mandate any changes found necessary to address unsafe conditions identified as a result of these reviews.

The Joint Aviation Authorities (JAA) have issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

The original NPRM and this supplemental NPRM follow from those rulings. As such, they may make use of service information issued previously but not mandated by AD action.

Explanation of Change in Applicability

We have revised the applicability to more closely match the effectivity of the EASA airworthiness directive. This change does not expand the applicability of this proposed action.

Explanation of Change in Compliance Time of Paragraph (h)

Paragraph (h) of the NPRM specifies to do the replacement “within 24 months after the effective date of this AD” and to repeat thereafter at intervals not to exceed 24 months. We have revised the compliance times in paragraph (h) of this supplemental NPRM to specify a compliance time of “within 26 months after the effective date of this AD” and to repeat thereafter at intervals not to exceed 26 months. We have determined that extending the compliance time will not adversely affect safety and will allow operators to coordinate the replacement specified in paragraph (h) of this supplemental NPRM with the other actions specified in this supplemental NPRM. This difference has been coordinated with the EASA.

FAA's Determination and Proposed Requirements of the Supplemental NPRM

The changes discussed above expand the scope of the original NPRM; therefore, we have determined that it is necessary to reopen the comment period to provide additional opportunity for public comment on this supplemental NPRM.

Interim Action

We consider this proposed AD interim action. EASA has informed us that the manufacturer is currently developing an additional modification that will address the unsafe condition identified in this AD. Once this modification is developed, approved, and available, we may consider additional rulemaking.

Costs of Compliance

The following table provides the estimated costs for U.S. operators to comply with this supplemental NPRM.

This supplemental NPRM would affect about 169 airplanes of U.S. registry. The following table provides the estimated costs for U.S. operators to comply with this supplemental NPRM. The average labor rate is $80 per work hour.

Estimated Costs
For airplanes on which this action is required— | Work hours | Parts | Cost per airplane
Action 3, Modify the retaining and protection system | 4 to 16 | $836 to $1,056 | $1,156 to $2,336.
Action 4, Modify the electrical wiring of routes 1P and 2P | 2 | $720 | $880.
Action 5, Inspect the wire looms on the wing trailing edge | 8 | Operator Supplied | $640.
Action 6, Replace the nylon clamps of the electrical routes in the hydraulic compartment and in the shroud box | 44 to 98 | $100 to $5,700 | $3,620 to $13,540.

Based on these figures, the estimated cost of the supplemental NPRM for U.S. operators is up to $2,939,924, or up to $17,396 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24289; Directorate Identifier 2005-NM-186-AD.

Comments Due Date

(a) The FAA must receive comments on this AD action by October 6, 2006.

Affected ADs

(b) None.

Applicability

(c) This AD applies to all Airbus Model A300 airplanes; A300 B4-601, B4-603, B4-620, B4-622, B4-605R, B4-622R, A300 F4-605R, F4-622R, and C4-605R Variant F airplanes; and A310 airplanes; certificated in any category.

Unsafe Condition

(d) This AD results from fuel system reviews conducted by the manufacturer. We are issuing this AD to reduce the potential of ignition sources inside fuel tanks, which, in combination with flammable fuel vapors, could result in fuel tank explosions and consequent loss of the airplane.

Compliance

(e) You are responsible for having the actions required by this AD performed within the compliance times specified, unless the actions have already been done.

Action 3—Modify the Retaining and Protection System

(f) For all airplanes identified in paragraphs (f)(1), and (f)(2) of this AD: Within 26 months after the effective date of this AD, modify the retaining and protection system for the electrical bundles located at the wing-to-fuselage junction, under the flap control screw jack.

(1) For Model A300 airplanes: Do the actions specified in paragraph (f) of this AD in accordance with the Accomplishment Instructions of Airbus Service Bulletin A300-24-0085, Revision 06, dated October 13, 2005.

(2) For Model A300 B4-601, B4-603, B4-620, B4-622, B4-605R, B4-622R, A300 F4-605R, F4-622R, and C4-605R Variant F airplanes, except those on which Airbus Modification 10505 has been done: Do the action specified in paragraph (h) of this AD in accordance with the Accomplishment Instructions of Airbus Service Bulletin A300-24-6043, Revision 06, dated October 13, 2005.

Action 4—Modify the Electrical Wiring of Routes 1P and 2P

(g) For Model A300 B4-601, B4-603, B4-620, B4-622, B4-605R, B4-622R, A300 F4-605R, F4-622R, and C4-605R Variant F airplanes; except those on which Airbus Modification 11741 has been done: Within 26 months after the effective date of this AD, modify the electrical wiring of routes 1P and 2P (along the top panel of the shroud box and the rear spars of the wings) by extending the protective conduits up to the next support, and replace the two existing clamps on this support with new, improved clamps. Do all actions in accordance with the Accomplishment Instructions of Airbus Service Bulletin A300-28-6056, dated February 18, 1998.

Action 5—Inspect the Wire Looms

(h) For all airplanes identified in paragraphs (h)(1) and (h)(2) of this AD: Within 26 months after the effective date of this AD, do a general visual inspection of the wire looms on the wing trailing edge for improperly held wires in the clamps, restore the electrical bundles to good condition, and replace the affected nylon clamps with metallic clamps that have an elastometer lining. Do any applicable corrective action before further flight. Repeat the inspection thereafter at intervals not to exceed 26 months until all clamps have been replaced.

(1) For Model A300 B4-601, B4-603, B4-620, B4-622, B4-605R, B4-622R, A300 F4-605R, F4-622R, and C4-605R Variant F airplanes; except those on which Airbus Modification 6478 has been done: Do the actions specified in paragraph (h) of this AD in accordance with the Accomplishment Instructions of Airbus Service Bulletin A300-24-6004, Revision 03, dated June 30, 1998.

(2) For Model A310 airplanes, except those on which Airbus Modification 6478 has been done: Do the actions specified in paragraph (h) of this AD in accordance with the Accomplishment Instructions of Airbus Service Bulletin A310-24-2009, Revision 03, dated June 30, 1998.

Action 6—Improve the Quality of the Electrical Routes

(i) For all airplanes identified in paragraphs (i)(1), (i)(2), and (i)(3) of this AD: Within 26 months after the effective date of this AD, replace the nylon clamps of the electrical routes in the hydraulic compartment and in the shroud box with new metallic clamps that have white silicone lining (for airplanes identified in paragraph (i)(1) of this AD); and/or replace the nylon clamps and change the location of routes 1P and 2P to improve the retention of the wiring loom (for airplanes identified in paragraphs (i)(2) and (i)(3) of this AD).

(1) For Model A300 airplanes; except those on which Airbus Modification 11763 has been done: Do the action specified in paragraph (i) of this AD in accordance with the Accomplishment Instructions of Airbus Service Bulletin A300-24-0100, dated April 7, 2005.

(2) For Model A300 B4-601, B4-603, B4-620, B4-622, B4-605R, B4-622R, A300 F4-605R, F4-622R, and C4-605R Variant F airplanes; except those on which Airbus Modifications 11763 and 12995 have been done: Do the action specified in paragraph (i) of this AD in accordance with the Accomplishment Instructions of Airbus Service Bulletin A300-24-6084, Revision 01, dated June 28, 2005.

(3) For Model A310 airplanes, except those on which Airbus Modification 11763 has been done: Do the action specified in paragraph (i) of this AD in accordance with the Accomplishment Instructions of Airbus Service Bulletin A310-24-2091, dated March 4, 2005.

Parts Installation

(j) After the effective date of this AD, no person may install on any airplane plate assemblies with part numbers A5351088000000 or A5351088000100 unless they have been modified in accordance with paragraph (f) of this AD.

Actions Accomplished According to Previous Revisions of Service Bulletins

(k) Actions done before the effective date of this AD in accordance with the service bulletins identified in Table 1 of this AD are acceptable for compliance with the corresponding requirements in this AD.

Table 1.—Previous Revisions of Service Bulletins
Airbus Service Bulletin | Revision level | Date
A300-24-0085 | Original | December 12, 1994.
A300-24-0085 | 03 | January 17, 1996.
A300-24-0085 | 04 | July 23, 1996.
A300-24-0085 | 05 | March 6, 2001.
A300-24-6004 | 1 | January 28, 1988.
A300-24-6004 | 2 | February 24, 1995.
A300-24-6043 | Original | December 12, 1994.
A300-24-6043 | 01 | February 7, 1995.
A300-24-6043 | 02 | May 10, 1995.
A300-24-6043 | 03 | January 17, 1996.
A300-24-6043 | 04 | March 6, 2001.
A300-24-6043 | 05 | August 30, 2001.
A300-24-6084 | Original | March 4, 2005.
A310-24-2009 | Original | May 31, 1985.
A310-24-2009 | 1 | January 28, 1988.
A310-24-2009 | 2 | February 24, 1995.

Alternative Methods of Compliance (AMOCs)

(l)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) European Aviation Safety Agency airworthiness directive 2006-0074, dated April 3, 2006, also addresses the subject of this AD.

Issued in Renton, Washington, on September 1, 2006.
Kalene C. Yanamura,
Acting Manager, Transport Airplane Directorate, Aircraft Certification Service.

[FR Doc. E6-14945 Filed 9-8-06; 8:45 am]

BILLING CODE 4910-13-P